DEPARTMENT OF HEALTH AND HUMAN SERVICES

Centers for Medicare & Medicaid Services

42 CFR Part 424

[CMS-1510-F2]

RIN 0938-AP88

Medicare Program; Home Health Prospective Payment System Rate Update for Calendar Year 2011; Changes in Certification Requirements for Home Health Agencies and Hospices; Correction

AGENCY: Centers for Medicare & Medicaid Services (CMS), HHS.

ACTION: Final rule; correcting amendment.

SUMMARY: In the November 17, 2010 issue of the Federal Register, we published a final rule that set forth an update to the Home Health Prospective Payment System (HH PPS) rates, including: The national standardized 60-day episode rates, the national per-visit rates, the nonroutine medical supply (NRS) conversion factors, and the low utilization payment amount (LUPA) add-on payment amounts, under the Medicare prospective payment system for HHAs. This correcting amendment corrects a technical error identified in the November 17, 2010 final rule.

DATES: Effective Date: This correcting amendment is effective February 18, 2011.

FOR FURTHER INFORMATION CONTACT: Randy Throndset, (410) 786-0131.

SUPPLEMENTARY INFORMATION:

I. Background

In FR Doc. 2010-27778 (75 FR 70372), the final rule entitled “Medicare Program; Home Health Prospective Payment System Rate Update for Calendar Year 2011; Changes in Certification Requirements for Home Health Agencies and Hospices” (hereinafter referred to as the CY 2011 HH PPS final rule), there was a technical error that is identified and corrected in the regulations text of this correcting amendment. The provisions of this correcting amendment are effective January 1, 2011.

II. Summary of Errors in the Regulations Text

On page 70464 of the CY 2011 HH PPS final rule, we made a technical error in the regulation text of § 424.22(b)(1). That language inadvertently deleted paragraphs (b)(1)(i) and (ii). Accordingly, we are adding those paragraphs in this correcting amendment.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

Our policy on timing and signature of recertification for home health services in the calendar year (CY) 2011 final rule has previously been subjected to notice and comment procedures. These corrections are consistent with the discussion of this policy in the CY 2011 final rule and do not make substantive changes to this policy. This correcting amendment merely corrects technical errors in the regulations text of the CY 2011 final rule. As a result, this correcting amendment is intended to ensure that the CY 2011 final rule accurately reflects the policy adopted in the final rule. Therefore, we find that undertaking further notice and comment procedures to incorporate these corrections into the final rule is unnecessary and contrary to the public interest.

For the same reasons, we are also waiving the 30-day delay in effective date for this correcting amendment. We believe that it is in the public interest to ensure that the CY 2011 final rule accurately states our policy on timing and signature of recertification for home health services. Thus delaying the effective date of these corrections would be contrary to the public interest. Therefore, we also find good cause to waive the 30-day delay in effective date.

List of Subjects in 42 CFR Part 424

Emergency medical services, Health facilities, Health professions, Medicare, Reporting and recordkeeping requirements.

Accordingly, the Centers for Medicare & Medicaid Services corrects 42 CFR part 424 by making the following correcting amendment:

PART 424—CONDITIONS FOR MEDICARE PAYMENT

1. The authority citation for part 424 continues to read as follows:

Authority: Secs. 1102 and 1871 of the Social Security Act (42 U.S.C. 1302 and 1395hh).

2. Amend § 424.22 by adding paragraphs (b)(1)(i) and (b)(1)(ii) to read as follows:

§ 424.22 Requirements for home health services.

* * * * *

(b) * * *

(1) * * *

(i) Beneficiary elected transfer; or

(ii) Discharge and return to the same HHA during the 60-day episode.

* * * * *

Authority: (Catalog of Federal Domestic Assistance Program No. 93.773, Medicare—Hospital Insurance; and Program No. 93.774, Medicare—Supplementary Medical Insurance Program)

Dated: February 10, 2011.
Dawn L. Smalls,
Executive Secretary to the Department.

[FR Doc. 2011-3779 Filed 2-17-11; 8:45 am]

BILLING CODE 4120-01-P